DEPARTMENT OF ENERGY

Federal Energy Regulatory Commission

Notice of Amended Application for the St. Anthony Falls Project and Extension of Time for Comments, Recommendations, Terms and Conditions, and Prescriptions

January 11, 2002.

Take notice that the following hydroelectric application has been amended by the applicant as identified in the project description below. By notice dated November 11, 2001, the Commission requested Comments, Recommendations, Terms and Conditions, and Prescriptions, due within 60 days of the notice. In order to give parties time to comment on the revised Application, the due date for Comments, Recommendations, Terms and Conditions, and Prescriptions has been extended to 60 days from the date of this notice. Changes proposed by the Applicant include removal of the Lower Development from the Project, revision of proposal for facilities for public access and usage at the new Main Street and Hennepin Island Dams, a new park on Upper Hennepin Island, and a combination of canoe access site, shoreline fishing structure, and observation deck at the Lower Development. The Applicant no longer proposes moving the Pillsbury Substation, diverting flows for a waterfall in the east Bluff area, donation of Hennepin Islands or direct funding to the Minnesota Park and Recreation Board.

a. Type of Application: New Major License

b. Project No.: P-2056-016

c. Date filed: Application filed December 21, 1998; Application amended October 11, 2001, and November 2, 2001.

d. Applicant: Northern States Power Company (NSP)

e. Name of Project: St. Anthony Falls Project

f. Location: On the Mississippi River, near Minneapolis and St. Paul, Hennepin County, Minnesota. There are no federal lands within the project boundary.

g. Filed Pursuant to: Federal Power Act, 16 USC 791(a)-825(r).

h. Applicant Contact: Mark H. Holmberg, P.E., Northern States Power Company, 414 Nicollet Mall, Minneapolis, MN 55401; (612) 330-6568

i. FERC Contact: Any questions on this notice should be addressed to Monte TerHaar, E-mail: monte.terhaar@ferc.fed.us, or telephone (202) 219-2768.

j. Deadline Date: March 18, 2002.

All documents (original and eight copies) should be filed with: Linwood A. Watson, Jr., Acting Secretary, Federal Energy Regulatory Commission, 888 First Street, NE, Washington, DC 20426.

Comments, protests and interventions may also be filed electronically via the Internet in lieu of paper. See, 18 CFR 385.2001(a)(1)(iii) and the instructions on the Commission's web site under the “e-Filing” link.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency.

k. Status of environmental analysis: This application has been accepted for filing and is ready for environmental analysis at this time. The Commission will prepare a draft and a final Environmental Assessment.

l. Description of the Project: The St. Anthony Falls Project currently consists of two developments on the Mississippi River, the Upper Development and the Lower Development.

Upper Main Dam Development

The Upper Main Dam development of the project consists of the Horseshoe dam spillway, main spillway, roll dams, Hennepin Island earthen dam, two abandoned wasteways, the Hennepin Island hydro entrance canal and powerhouse, the Main Street/Hennepin Island dam, and the Main Street plant. The U.S. Army Corps of Engineers (COE) Upper St. Anthony Lock is on the right (south) bank of the river adjacent to the Upper Dam development. The headrace canal for the Crown Mill Hydroelectric Project (FERC No. 11175) is being developed just upstream of the lock.

NSP has completed construction of a replacement, multiple-circular-cell sheetpile dam to replace the existing Main Street/GE Dam and adjacent intake structure. A similar cellular dam structure has been constructed at the Wasteway No. 2 Intake Gates.

Lower Development

The Lower Development consists of an upstream closure dam, a downstream closure dam, and left retaining wall which encompass approximately 3.53 acres of land owned by NSP. There are currently no hydropower facilities at the Lower Development. In November of 1987, the St. Anthony Falls Lower Dam Hydro Plant experienced an undermining failure. On August 19, 1988, the Commission issued an order authorizing complete demolition and removal of the lower facility. Demolition of the powerhouse was completed by the end of 1988. As of August 2001, all necessary remedial work necessary to ensure dam safety at the Lower Development has been completed to the Commission's satisfaction. In their application, and by a letter dated November 2, 2001, NSP has proposed to remove the lower development from the project.

NSP had proposed a number of recreational enhancements in its original application for license in 1998. These enhancement measures were developed in consultation with the Minnesota Department of Natural Resources, Minnesota Parks and Recreation Board, the City of Minneapolis, and the Mississippi Whitewater Development Corporation. However, NSP states that the consultative process has broken down without an agreement and hence, the NSP has revised its recreational/aesthetic mitigation and enhancement proposal as described below:

(1) Mitigation Measures at the Upper Development

• A straight-line cantilever along the face of the new dams providing an overhang to partially shade or cover the facade of the dam;

• Smooth, broom-swept concrete surface covering for the upstream edge (bridged sections) of the dam excluding the bicycle path;

• Surface covering of dam (excluding concrete slabs and bicycle path) with finely crushed limestone aggregate of compatible color with the concrete slabs;

• Earth fill between the steel sheet pile cells and the old (Main Street) powerhouse limited to reach but not cover the brick of the historic powerhouse; and

• Surface covering for the swale upstream of the powerhouse with finely crushed limestone aggregate of compatible color with the concrete slabs; planting swale areas upstream of the old GE Dam and between the new Hennepin Island Dam and the old wasteway headworks with native vegetation.

NSP has completed the last two items and expects to complete the others shortly.

(2) Other Measures at the Upper Development

• An eight-foot bicycle path of bituminous composition on the powerhouse side of the concrete slabs along the upstream face of the dam;

• A switchback ramp between the old powerhouse and the Main Street to provide bicycle/barrier-free access to the new dam; steps leading straight down the river bank on to the new dam from Main Street;

• Observation areas and benches at four locations on the dams;

• An overlook area on the new dam for interpretive displays;

• An interpretive sign for the Main Street Substation at the trashrack observation area;

• Railings, lights, and interpretive signs to generally match those on the Stone Arch Bridge.

• A pedestrian bridge linking the Main Street Dam to Hennepin Island; and

• New walkways, interpretive nodes, visual overlooks, information shelter, natural areas, landscaping, and other improvements on upper Hennepin Island.

(3) Mitigation Measures at the Lower Development

NSP proposes to provide new facilities for canoe access, shoreline fishing, and public observation at the restored Lower Dam site.

(4) Changes in NSP's Proposed Mitigation Measures

NSP does not propose to move the Pillsbury Substation or diverting water to re-create a waterfall in the East Bluff area from its current location. NSP's revised recreation mitigation plan does not include any funding to the Minnesota Park and Recreation Board for operation and maintenance of the East Bank Park Development, nor donation of Hennepin Island lands to the Minnesota Park and Recreation Board. Instead, NSP proposes to independently develop, operate, and maintain park facilities on the upper part of Hennepin Island and the former Lower Dam site.

Details of the enhancement and mitigation measures were filed with the Commission on October 11, 2001 and are available electronically for review at the Commission's website (www.ferc.gov). Copies may also be requested directly from NSP. The Commission will discuss this alternative in its Environmental Assessment.

m. Locations of the application: Copies of this filing are on file with the Commission and are available for public inspection. This filing may also be viewed on the Web at http://www.ferc.gov using the “RIMS” link, select “Docket#” and follow the instructions (call 202-208-2222 for assistance). A copy is also available for inspection and reproduction at the address in item “h” above.

Filing and Service of Responsive Documents—The application is ready for environmental analysis at this time, and the Commission is requesting comments, reply comments, recommendations, terms and conditions, and prescriptions.

The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Any of these documents must be filed by providing the original and the number of copies required by the Commission's regulations to: The Secretary, Federal Energy Regulatory Commission, 888 First Street, NE., Washington, DC 20426. An additional copy must be sent to Director, Division of Environmental and Engineering Review, Office of Energy Projects, Federal Energy Regulatory Commission, at the above address. Each filing must be accompanied by proof of service on all persons listed on the service list prepared by the Commission in this proceeding, in accordance with 18 CFR 4.34(b) and 385.2010.

C.B. Spencer,
Acting Secretary.

[FR Doc. 02-1230 Filed 1-16-02; 8:45 am]

BILLING CODE 6717-01-P